DEPARTMENT OF THE INTERIOR

Fish and Wildlife Service

[FWS-R1-FHC-2008-N0206; 81331-1334-8TWG-W4]

Trinity Adaptive Management Working Group

AGENCY: Fish and Wildlife Service, Interior.

ACTION: Notice of meeting.

SUMMARY: The Trinity Adaptive Management Working Group (TAMWG) affords stakeholders the opportunity to give policy, management, and technical input concerning Trinity River (California) restoration efforts to the Trinity Management Council (TMC). This notice announces a TAMWG meeting, which is open to the public.

DATES: TAMWG will meet from 1 p.m. to 5 p.m. on Monday, August 25, 2008 and from 8:30 to 1 on Tuesday, August 26, 2008.

ADDRESSES: The meeting will be held at the Weaverville Victorian Inn, 1709 Main St., 299 West, Weaverville, CA 96093.

FOR FURTHER INFORMATION CONTACT: Randy A. Brown of the U.S. Fish and Wildlife Service, 1655 Heindon Road, Arcata, CA 95521; telephone: (707) 822-7201. Randy A. Brown is the TAMWG Designated Federal Officer. For background information and questions regarding the Trinity River Restoration Program (TRRP), please contact Douglas Schleusner, Executive Director, Trinity River Restoration Program, P.O. Box 1300, 1313 South Main Street, Weaverville, CA 96093; telephone: (530) 623-1800; E-mail: dschleusner@mp.usbr.gov

SUPPLEMENTARY INFORMATION: Under section 10(a)(2) of the Federal Advisory Committee Act (5 U.S.C. App.), this notice announces a meeting of the (TAMWG).

Primary objectives of the meeting will include discussion of the following topics:

• TRRP construction program,

• TRRP budget,

• Integrated Assessment Plan,

• Trinity River Hatchery goals and policies, and

• Response to CDR Situation Assessment.

Completion of the agenda is dependent on the amount of time each item takes. The meeting could end early if the agenda has been completed.

Dated: July 24, 2008.
Randy A. Brown,
Designated Federal Officer, Arcata Fish and Wildlife Office, Arcata, CA.

[FR Doc. E8-18696 Filed 8-12-08; 8:45 am]

BILLING CODE 4310-55-P